DEPARTMENT OF LABOR

Employment and Training Administration

[TA-W-64,852]

MGP Ingredients, Inc., Pekin, IL; Notice of Termination of Investigation

Pursuant to Section 221 of the Trade Act of 1974, as amended, an investigation was initiated on January 12, 2009 in response to a worker petition filed by officials of the United Food and Commercial Workers Union on behalf of workers at MGP Ingredients, Inc., Pekin, Illinois.

The petitioners have requested that the petition be withdrawn. Consequently, the investigation has been terminated.

Signed at Washington, DC, this 15th day of April 2009.
Richard Church,
Certifying Officer, Division of Trade Adjustment Assistance.

[FR Doc. E9-10899 Filed 5-8-09; 8:45 am]

BILLING CODE 4510-FN-P